DEPARTMENT OF LABOR

Pension and Welfare Benefits Administration

Working Group on Challenges to the Employment-Based Healthcare System Advisory Council on Employee Welfare and Pension Benefits Plan; Notice of Meeting

Pursuant to the authority contained in Section 512 of the Employee Retirement Income Security Act of 1974 (ERISA), 29 U.S.C. 1142, a public meeting, via teleconference, will be held Tuesday, October 16, 2001, of the Advisory Council on Employee Welfare and Pension Benefit Plans Working Group assigned to study challenges to the employment-based healthcare system.

The session will take place in the conference room in Suite N-5677, U.S. Department of Labor Building, Second and Constitution Avenue, NW, Washington, D.C. 20210. The purpose of the open meeting, which will run from 11:00 a.m. to approximately 1:30 p.m., is for working group members to discuss their findings and/or recommendations on the weaknesses, strengths and alternatives to employer-based health benefits.

Members of the public are encouraged to file a written statement pertaining to the topic by submitting 20 copies on or before October 7, 2001, to Sharon Morrisey, Executive Secretary, ERISA Advisory Council, U.S. Department of Labor, Room N-5677, 200 Constitution Avenue, NW, Washington, D.C. 20210. Individuals or representatives of organizations wishing to address the Working Group should forward their request to the Executive Secretary or telephone (202) 219-8753. Oral presentations will be limited to 20 minutes, but an extended statement may be submitted for the record. Individuals with disabilities, who need special accommodations, should contact Sharon Morrisey by October 7, at the address indicated in this notice.

Organizations or individuals may also submit statements for the record without testifying. Twenty (20) copies of such statements should be sent to the Executive Secretary of the Advisory Council at the above address. Papers will be accepted and included in the record of the meeting if received on or before October 7.

Signed at Washington, DC this 24th day of September 2001.
Ann L. Combs,
Pension and Welfare Benefits Administration.

[FR Doc. 01-24460 Filed 9-28-01; 8:45 am]

BILLING CODE 4510-29-M